DEPARTMENT OF HEALTH AND HUMAN SERVICES

Administration for Children and Families

Grants and Cooperative Agreements; Notice of Availability

Federal Agency Contact Name: Administration on Children, Youth and Families, Children's Bureau.

Funding Opportunity Title: National Resource Center for Community-Based Grants for the Prevention of Child Abuse and Neglect.

Announcement Type: Cooperative Agreement-Initial.

Funding Opportunity Number: HHS-2004-ACF-ACYF-CA-0005.

CFDA Number: 93.590.

Due Date for Applications: The due date for receipt of applications is June 14, 2004.

I. Funding Opportunity Description

The purpose of this Cooperative Agreement is to provide financial support for training and technical assistance to promote the purposes of the Community-Based Grants for the Prevention of Child Abuse and Neglect program, known hereafter as the Community-Based Child Abuse Prevention (CBCAP) program. This training and technical assistance is intended to build the capacity of CBCAP lead agencies to:

(1) Foster an understanding, appreciation, and knowledge of diverse populations in order to be effective in preventing and treating child abuse and neglect;

(2) Facilitate and assist efforts of State, local, Tribal, public, and private agencies in the interagency, inter-disciplinary, coordinated planning and development of a network of community-based programs and activities designed to strengthen and support families to prevent child abuse and neglect;

(3) Actively engage in conducting regular and ongoing needs assessments that will be used to identify unmet needs and which also incorporate findings from other Statewide needs assessment processes;

(4) Demonstrate a commitment to meaningful parent leadership, especially for parents of children with disabilities, racial and ethnic minorities, and members of other underrepresented or underserved groups;

(5) Maximize funding through leveraging of funds for the financing, planning and operation of child abuse prevention programs and activities;

(6) Promote the development and implementation of lead agency program evaluation processes that include a peer review component and other evaluation methodologies; and

(7) Support States in their Program Improvement Plans resulting from Child and Family Service Reviews.

Expected outcomes include the enhanced capacity of each State lead agency to engage in:

(1) Developing, supporting, and maintaining networks of coordinated resources and activities to better strengthen and support families to reduce the likelihood of child abuse and neglect;

(2) Conducting interagency needs assessments of required services;

(3) Facilitating CBCAP program and policy development;

(4) Coordinating the delivery of child abuse and neglect prevention services;

(5) Promoting the meaningful participation of parents in the design, implementation and evaluation of funded services;

(6) Conducting program evaluations that include a peer review component and other evaluation methodologies; and

(7) Enhancing the capacity of the lead agencies to become more active participants in their State's Child and Family Services Review/Program Improvement Planning processes.

This Resource Center is expected to train and assist State lead agencies to establish effective interagency cooperation and collaboration that involves all stakeholders, including families, and promotes public-private partnerships in the establishment and expansion of child abuse prevention programs. Training and technical assistance needs will be identified by CBCAP lead agency staff in collaboration with ACYF Central and Regional Office personnel, and coordinated with other ongoing national training and technical assistance efforts. The Children's Bureau is also working closely with its network of Child Welfare National Resource Centers to respond to training and technical assistance needs related to CFSRs, PIPs and other priorities. The NRC for CBCAP is also expected to work closely with these other national efforts. The Resource Center will also be actively involved with identifying other training and technical assistance needs based on their work with the Lead Agencies. Training outcomes should be achieved through a combination of strategies, including on-site training, on and off-site technical assistance, and consultation with all appropriate stakeholder groups.

Background Information

The Administration on Children, Youth and Families (ACYF) administers national programs for children and youth; works with States and local communities to develop services which support and strengthen family life; seeks joint ventures with the private sector to enhance the lives of children and their families; and provides information and other assistance to parents. The concerns of ACYF extend to all children from pre-natal through adolescence. Many of the programs administered by the agency focus on children from low-income families; abused and neglected children; children and youth in need of foster care, independent living, adoption or other child welfare services; preschool children; children with disabilities; runaway and homeless youth; and children from Native American and migrant families.

Within ACYF, the Children's Bureau plans, manages, coordinates, and supports child abuse and neglect prevention and child welfare services programs. The Children's Bureau programs are designed to promote the safety, permanency, and well-being of all children, including those in foster care, available for adoption, recently adopted, abused, neglected, dependent, disabled, or homeless children and to prevent neglect and abuse of children. The programs also encourage strengthening the family unit to help prevent the unnecessary separation of children from their families and reunifying families, when appropriate, when separation has occurred. The Children's Bureau also supports programs and services that encourage healthy marriage; promote family stability; support relationship building for parenting couples; reach out to and provide assistance to fathers; and emphasize the role of fathers in ensuring the well-being of their children.

The Children's Bureau is the agency within the Federal Government that has primary responsibility for assisting State child welfare systems to promote continuous improvement in the delivery of child welfare services. State child welfare systems are designed to protect children who have suffered maltreatment, who are at risk for maltreatment, or who are under the care and placement responsibility of the State because their families are unable to care for them. These systems also focus on securing permanent living arrangements through foster care and adoption for children who are unable to return home.

The Children's Bureau fulfills this mission by providing leadership and conducting activities designed to assist and enhance national, State, and community efforts to prevent, assess, identify, and treat child abuse and neglect. These activities include data collection and analysis; research and demonstration programs, and grants to States for: developing comprehensive child-centered and family-focused child protective services systems; providing training and technical assistance to develop the necessary resources to implement successful comprehensive child and family protection strategies; gathering, processing, and housing high quality data sets through a National Data Archive on Child Abuse and Neglect; and gathering, storing, and disseminating child maltreatment information through a National Clearinghouse on Child Abuse and Neglect Information and a National Adoption Information Clearinghouse.

Federal programs administered by the Bureau include the Foster Care and Adoption Assistance Programs, the Child Welfare Services State Grants Program, Child Welfare Services Training Program, the Chafee Foster Care Independence Program, the Adoption Opportunities Program, the Abandoned Infants Assistance Program, the Promoting Safe and Stable Families Program, the Court Improvement Program, and several State and discretionary grant programs authorized by the Child Abuse Prevention and Treatment Act (CAPTA). For more information about Children's Bureau programs, visit http://www.acf.hhs.gov/programs/cb.

Child Abuse Prevention and Treatment Act (CAPTA)

Since its enactment in 1974, CAPTA (42 U.S.C. 5101 et seq.) has sought to increase national attention to the problem of child abuse and neglect and to improve the Nation's ability to prevent and respond to the maltreatment of children. Through its several reauthorizations over the years, the law has worked to strengthen the entire child protective services system. Under CAPTA, programs have been implemented for the prevention of child maltreatment, the identification of child abuse and neglect, initial response, assessment and investigation of suspected child abuse reports, and prosecution of caregivers found to be the perpetrators of the abuse.

Title I of CAPTA authorizes research and demonstration grants, data collection and information dissemination activities and two State grant programs: the Basic State Grant and the Children's Justice Act Grant. The Basic State Grant provides States with funds and basic Federal guidelines to strengthen and maintain their child protective services (CPS) systems. The Children's Justice Act provides funds to assist States in developing, establishing and operating programs which are designed to improve the handling of child abuse and neglect cases to reduce trauma to the child victim; the handling of cases of suspected child abuse or neglect related fatalities; and the investigation and prosecution of cases on child abuse or neglect.

Title II of CAPTA authorizes the Community-Based Grants for the Prevention of Child Abuse and Neglect. This program assists States to develop and implement, or expand and enhance a comprehensive statewide system of community-based family resource and support services to prevent child maltreatment.

Community-Based Grants for the Prevention of Child Abuse and Neglect Program

In 2003, the Congress passed legislation reauthorizing CAPTA's programs for an additional five years. Among the provisions in the legislation was a section reauthorizing, amending and re-naming the program previously known as the Community-Based Family Resource and Support (CBFRS) Grants program. The program is now known as the Community-Based Grants for the Prevention of Child Abuse and Neglect or, for the sake of brevity, the Community-Based Child Abuse Prevention (CBCAP) program. This formula grant program specifically supports community-based efforts to develop, operate, expand, enhance, and, where appropriate, to network, initiatives aimed at the prevention of child abuse and neglect, to support networks of coordinated resources and activities to better strengthen and support families to reduce the likelihood of child abuse and neglect, and to foster an understanding, appreciation, and knowledge of diverse populations in order to be effective in preventing and treating child abuse and neglect.

All States, the District of Columbia, and the territories receive funding under the program. In every State, the Governor designated a Lead Agency to receive these funds. The Lead Agencies were most often the State child welfare agency or other public agency or the Children's Trust and Prevention Board for the State. Those Lead Agencies provided grants to local agencies to fund child abuse prevention and family support services and activities. Many States funded core services such as parent education, parent mutual support, home visiting programs, early childhood programs, respite and crisis care, family resource centers, and other family support services. In addition, the Lead Agencies provided leadership and support for the child abuse prevention network in the State and offered training and technical assistance to their funded programs.

Lead agencies are often involved in many other systems change efforts in the States. One of these major systems change efforts at the Federal level is the Child and Family Services Reviews (CFSR). Findings from the States that have completed their reviews thus far indicate that many States and communities lack adequate prevention and community-based services for families. There is also a need for comprehensive family assessments and for greater engagement of parents in the case planning process. Since the provision of prevention services and the emphasis on parent engagement are strong components of the CBCAP program, technical assistance to the Lead Agencies to increase coordination between the State's CFSR process and the development and operation of the CBCAP program is greatly encouraged.

II. Award Information

Funding Instrument Type: Cooperative agreement.

Description of Federal Substantial Involvement With Cooperative Agreement: A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of grant or sub-grant activities, if applicable; and Children's Bureau and recipient joint collaboration in the performance of key programmatic activities (i.e., strategic planning, implementation, information technology enhancements, training and technical assistance, publications or products, and evaluation). It also includes close monitoring by the Children's Bureau of the requirements stated in this announcement that limit the grantee's discretion with respect to scope of services offered, organizational structure and management processes, coupled with close Children's Bureau monitoring during performance, which may, in order to ensure compliance with the intent of this funding, exceed those Federal stewardship responsibilities customary for grant activities.

Anticipated Total Program Funding: The anticipated total for all awards under this funding opportunity in FY2004 is $1,075,000.

Anticipated Number of Awards: It is anticipated that one project will be funded.

Ceiling on Amount of Individual Awards: The cooperative agreement amount will not exceed $1,075,000 in the first budget period. An application received that exceeds the upper value of the dollar range specified will be considered “non-responsive” and be returned to the applicant without further review.

Floor of Individual Award Amounts: None.

Project Periods for Awards: The projects will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State controlled institutions of higher education;

Nonprofits having a 501(c)(3) status with the IRS, other than institutions of higher education;

Nonprofits that do not have a 501(c)(3) status with the IRS, other than institutions of higher education;

Private institutions of higher education;

For-profit organization other than small businesses.

Additional Information on Eligibility

Public or private non-profit agencies and organizations (including faith-based organizations), for-profit organizations, and institutions of higher education may apply. Collaborative efforts and interdisciplinary approaches are acceptable. Applications from collaborations must identify a primary applicant responsible for administering the cooperative agreement.

Proof of non-profit status is any one of the following:

(a) A reference to the applicant organization's listing in the Internal

Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applications that exceed the $1,075,000 ceiling will be considered non-responsive and will not be eligible for funding under this announcement.

2. Cost Sharing or Matching

The grantee must provide at least 10 per cent of the total approved cost of the project. The total approved cost is the sum of the Federal share and the non-Federal share. Therefore, a project requesting $1,075,000 per budget period must include a match of at least $119,444 per budget period. Applicants should provide a letter of commitment verifying the actual amount of the non-Federal share of project costs.

The following example shows how to calculate the required 10% match amount for a $1,075,000 grant:

$1,075,000 (Federal share) divided by .90 (100%—10%) equals $1,194,444 (total project cost including match) minus $1,075,000 (Federal share) equals $119,444 (required 10% match)

The non-Federal share may be cash or in-kind contributions, although applicants are encouraged to meet their match requirements through cash contributions. If approved for funding, grantees will be held accountable for the commitment of non-Federal resources and failure to provide the required amount will result in a disallowance of unmatched Federal funds.

3. Other (if applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

ACYF Operations Center, c/o The Dixon Group, Inc., ATTN: Children's Bureau, 118 Q Street, NE., Washington, DC 20002-2132; Telephone: (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.grants.gov.

• You must search for the downloadable application package by the CFDA number.

Electronic Address Where Applications Will Be Accepted: Grants.gov.

Address Where Hard Copy Applications Will Be Accepted: Children's Bureau Grant Receipt Point, ACYF Operations Center, c/o The Dixon Group, Inc., 118 Q Street, NE., Washington, DC 20002-2132.

Each application must contain the following items in the order listed:

* Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check ‘New.’

In Item 10 of Form 424, clearly identify the Catalog of Federal Domestic Assistance (CFDA) program title and number for the program for which funds are being requested as stated in the funding opportunity announcement.

In Item 11 of Form 424, identify the single funding opportunity the application addresses.

In Item 12 of Form 424, identify the specific geographic area to be served.

In Item 14 of Form 424, identify Congressional districts of both the applicant and project.

* Budget Information Non-Construction Programs (Form 424A) and Budget Justification.

Follow the instructions provided and those in the Uniform Project Description. Note that Federal funds provided to States and services or other resources purchased with Federal funds may not be used to match project grants.

* Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

By signing the “Signature of Authorized Representative” on the SF 424, the applicant is providing a certification and need not mail assurances for completing the following grant and cooperative agreement requirements:

The applicant will have the project fully functioning within 90 days of the notification of the grant award;

Participation in any evaluation or technical assistance effort supported by ACYF;

Submission of all required semi-annual and final Financial Status Reports (SF269) and Program Performance Reports in a timely manner, in hard-copy and electronic formats (preferably MS WORD and PDF) as negotiated with the Federal Project Officer; and allocate sufficient funds in the budget to provide for the project director and the evaluator to attend a 2-day early kick off meeting to be held within the first three months of the project (first year only) in Washington, DC, and attend an annual 3-5 day grantees' conference in Washington, DC. Attendance at these meetings is a grant requirement.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable DHHS regulations can be found in 45 CFR part 74 or 92.

* Project Abstract/Summary (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

* Project Description for Evaluation. Applicants should organize their project description according to the Evaluation Criteria described in this funding opportunity announcement providing information that addresses all the components.

* Proof of non-profit status (if applicable). Any non-profit organization submitting an application must submit proof of its non-profit status in its application at the time of submission. Any of the following constitutes acceptable proof of such status:

a. A reference to the applicant organization's listing in the Internal Revenue Service's (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

* Indirect cost rate agreement. If claiming indirect costs, provide documentation that applicant currently has an indirect cost rate approved by the Department of Health and Human Services (HHS) or another cognizant Federal agency.

* Letters of agreement and memoranda of understanding. If applicable, include a letter of commitment or Memorandum of Understanding from each partner and/or sub-contractor describing their role, detailing specific tasks to be performed, and expressing commitment to participate if the proposed project is funded.

* Provide a letter of commitment verifying the actual amount of the non-Federal share of project costs.

* The application limit is 75 pages total including all forms and attachments. Submit one original and two copies.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures, signed in black ink.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Tips for Preparing a Competitive Application

It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application

The specific evaluation criteria in Section V of this funding announcement will be used to review and evaluate each application. The applicant should address each of these specific evaluation criteria in the project description. It is strongly recommended that applicants organize their proposals in the same sequence and using the same headings as these criteria, so that reviewers can readily find information that directly addresses each of the specific review criteria.

Project Evaluation Plan

Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model

A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects

If your evaluation plan includes gathering data from or about clients, there are specific procedures which must be followed in order to protect their privacy and ensure the confidentiality of the information about them. Applicants planning to gather such data are asked to describe their plans regarding an Institutional Review Board (IRB) review. For more information about use of human subjects and IRB's you can visit these Web sites: http://ohrp.osophs.dhhs.gov/irb/irb_chapter2.htm#d2 and http://ohrp.osophs.dhhs.gov/humansubjects/guidance/ictips.htm.

3. Submission Dates and Times

The closing date for receipt of applications is 4:30 p.m. eastern standard time (e.s.t.) on June 14, 2004. Mailed applications received after the closing date will be classified as late.

Deadline: Mailed applications shall be considered as meeting an announced deadline if they are received on or before June 14, 2004. Applications must be mailed to the following address: ACYF Operations Center, c/o The Dixon Group, Inc., ATTN: Children's Bureau, 118 Q Street, NE., Washington, DC 20002-2132.

Applicants must ensure that a legibly dated U.S. Postal Service postmark or a legibly dated, machine produced postmark of a commercial mail service is affixed to the envelope/package containing the application (s). To be acceptable as proof of a timely mailing, a postmark from a commercial mail service must include the logo/emblem of the commercial mail service company and must reflect the date the package was received by the commercial mail service company from the applicant. Private Metered postmarks shall not be acceptable as proof of timely mailing. Applicants are cautioned that express/overnight mail services do not always deliver as agreed.

Applications hand-carried by applicants, applicant couriers, or by other representatives of the applicant shall be considered as meeting an announced deadline if they are received on or before the deadline date, between the hours of 8 a.m. and 4:30 p.m., e.s.t., at ACYF Operations, The Dixon Group, ATTN: Children's Bureau, 118 Q Street, NE., Washington, DC 20002-2132, between Monday and Friday (excluding Federal holidays). This address must appear on the envelope/package containing the application with the note “ATTN: Children's Bureau.” Applicants are cautioned that express/overnight mail services do not always deliver as agreed.

Late applications

Applications which do not meet the criteria above are considered late applications. ACF shall notify each late applicant that its application will not be considered in the current competition.

Extension of deadlines

ACF may extend application deadlines when circumstances such as acts of God (floods, hurricanes, etc.) occur, or when there are widespread disruptions of mails service. Determinations to extend or waive deadline requirements rest with the Chief Grants Management Officer.

Required Forms

What to Submit | Required content | Required form or format | When to submit
1. SF424 | Per required form | May be found at http://www.acf.hhs.gov/programs/ofs/grants/form.htm | See application due date.
2. SF424 | Per required form | May be found at http://www.acf.hhs.gov/programs/ofs/grants/form.htm | See application due date.
3. a. SF424B | Per required form | May be found at http:/www.acf.hhs.gov/programs/ofs/grants/form.htm | See application due date.
3. b. Certification regarding lobbying | Per required form | May be found at http://www.acf.hhs.gov/programs/ofs/grants/form.htm | See application due date.
3. c. Disclosure of Lobbying Activities (SF-LLL) | Per required form | May be found at http://www.acf.hhs.gov/programs/ofs/grants/form.htm | See application due date.
4. Project Summary/Abstract | Summary of application request | See instructions in this funding announcement | See application due date.
5. Project Description | Responsive-ness evaluation criteria date | See instructions in this funding announcement | See application due date.
6. Proof of non-profit status | See above | See instructions in this funding announcement | See application due date.
7. Indirect cost rate agreement | See above | See instructions in this funding announcement | See application due date.
8. Letters of agreement & MOUs | See above | See instructions in this funding announcement | See application due date.
9. Non-Federal share letter | See above | See instructions in this funding announcement | See application due date.
Total application | See above | Application limit 75 pages total including all forms and attachments. Submit one original and two copies | See application due date.

Additional Forms

Private-non-profit organizations may submit with their applications the additional survey located under “Grant Related Documents and Forms” titled “Survey for Private, Non-Profit Grant Applicants.”

What to submit | Required content | Required form or format | When to submit
Survey for Private, Non-Profit Grant applicants | Per required form | map be found on http://www.acf.hhs.gov/programs/ofs/grants/form.htm | By application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs. Construction is not an allowable activity or expenditure under this solicitation.

6. Other Submission Requirements

Submission by Mail: An applicant must provide an original application with all attachments, signed by an authorized representative and two copies. The application must be received at the address below by 4:30 p.m. eastern standard time (e.s.t.) on or before the closing date. Applications should be mailed to: ACYF Operations Center, c/o The Dixon Group, Inc., ATTN: Children's Bureau, 118 Q Street, NE., Washington, DC 20002-2132.

For Hand Delivery Applicant must provide an original application with all attachments, signed by an authorized representative and two copies. The application must be received at the above address by 4:30 PM Eastern Standard Time (EST) on or before the closing date. Applications that are hand delivered will be accepted between the hours of 8 a.m. and 4:30 p.m., Monday through Friday. Applications may be delivered to: ACYF Operations Center, c/o The Dixon Group, ATTN: Children's Bureau, 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed and reviewing the collection information. The project description is approved under OMB control number 0970-0139 which expires 3/31/2004 (under review at OMB). An agency may not conduct or sponsor, and a person is not required to respond to, a collection of information unless it displays a currently valid OMB control number.

Instruction

Introduction

Applicants are required to submit a full project description and shall prepare the project description statement in accordance with the following instructions and the specified evaluation criteria. The instructions give a broad overview of what your project description should include while the evaluation criteria expands and clarifies more program-specific information that is needed.

1. Criteria

General Instruction for Preparing Full Project Description

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the application demonstrates a clear understanding of the need for providing training and technical assistance to public and private agencies linked to the CBCAP program, and demonstrates a clear understanding of the goals of the legislative mandate.

(2) The extent to which the training and technical assistance objectives of the project will effectively build the capacity of State, and local public and private agencies to support effective community-based efforts to develop, operate, expand, and enhance initiatives aimed at the prevention of child abuse and neglect.

(3) The extent to which the overall vision for the training and technical assistance approach will effectively enable CBCAP lead agencies to facilitate the effective development and implementation of excellent evaluation processes that will effectively determine the efficacy and impact of their activities and programs.

(4) The extent to which the proposed project will produce significant results and benefits, and a high level of customer satisfaction on the part of lead agencies for the CBCAP program and their State and local constituents.

Criterion 2. Approach

In reviewing the approach, the following factors will be considered: (50 points)

(1) The extent to which there is a reasonable timeline for implementing the proposed project, including the activities to be conducted in chronological order, showing a reasonable schedule of accomplishments and target dates and the factors that may accelerate or decelerate the work.

(2) The extent to which the application provides a workable plan of action and evaluation plan. The extent to which these plans relate to the stated objectives and scope of the project and reflect the intent of the legislative mandates.

(3) The extent to which the application describes sound strategies for effectively providing technical assistance and building the capacity of State, and local public and private agencies to create and support excellent networks of coordinated resources and activities designed to strengthen and support families to prevent child abuse and neglect.

(4) The extent to which the application describes a sound process for providing technical assistance to the lead agencies on the development and implementation of evaluation processes that will determine the efficacy and impact of their networks, programs, and activities. The extent to which these evaluation processes encompass a continuum of approaches from more qualitative methods such as peer reviews to more quantitative methods such as outcome evaluations.

(5) The extent to which the application describes effective strategies to help lead agencies develop a child-focused, family-centered approach to the delivery of child abuse prevention programs and activities that reinforce and complement the State's efforts to provide services to preserve and support families. The extent to which this plan includes strategies that will enhance the lead agency's capacity to promote parent leadership and involve parents in the planning, implementation, and evaluation of funded programs.

(6) The extent to which the project will promote: (1) Interagency collaboration and implementation of new procedures for blending funding streams; (2) collaborative long-range planning of child abuse prevention, family support services and service delivery options; and (3) management improvement strategies that facilitate interagency coordination. The extent to which the awardee will assist lead agencies to become more active participants in the Child and Family Services Reviews and Program Improvement Planning processes in their States.

(7) The extent to which the application describes a sound plan for establishing an advisory board that will provide useful overall program direction and guidance to the activities of the Resource Center. The extent to which the application describes effective strategies for efficiently and effectively utilizing their expertise.

(8) The extent to which the application will effectively coordinate activities with other National Resource Centers and Clearinghouses funded by the Children's Bureau and others; particularly as it relates to the Child and Family Service Reviews.

(9) The extent to which the Resource Center's services, program activities, and materials will be developed and provided in a manner that is racially and culturally sensitive to the population being served.

(10) The extent to which the evaluation strategy addresses both process and outcomes. The extent to which this plan includes methods and criteria to evaluate the results and benefits of the technical assistance project in terms of its stated objectives. The extent to which goals and objectives are stated in specific measurable form and will document change, improvement, and effectiveness. The extent to which the awardee will collect appropriate data. The extent to which the project proposes appropriate measure(s) for each goal, objective, result or benefit.

Criterion 3. Organizational Profiles

In reviewing the organizational profiles, the following factors will be considered: (20 points)

(1) The extent to which the proposed project clearly demonstrates the ability to administer and implement the project effectively and efficiently. The extent to which the applicant and any partnering organizations collectively have sufficient experience and expertise in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, and (5) designing, developing, delivering and evaluating training materials. If the project involves partnerships with additional agencies, organizations or subcontractors; the extent to which each partnering organization has the ability and organizational capacity to fulfill its roles and functions.

(2) The extent to which the proposed project director and key project staff possess sufficient relevant knowledge, experience and capabilities to implement and manage a project of this size, scope and complexity effectively. The extent to which the role, responsibilities and time commitments of each proposed project staff position, including consultants, subcontractors and/or partners, are clearly defined and appropriate to the successful implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

(4) The extent to which the author(s) of the proposal will be involved in the ongoing implementation and/or administrative structure of the project.

Criterion 4. Budget and Budget Justification

In reviewing the budget and budget justification, the following factors will be considered: (10 points)

(1) The extent to which the costs of the proposed project are reasonable, in view of the activities to be conducted and expected results and benefits.

(2) The extent to which the applicant's fiscal controls and accounting procedures would ensure prudent use, proper and timely disbursement and accurate accounting of funds received under this program announcement

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

VI. Award Administration Information

1. Award Notices

Anticipated Announcement and Award Dates: Applications will be reviewed in the Summer 2004. Grant awards will have a start date no later than September 30, 2004.

Award Notices

Successful applicants will receive a Financial Assistance Award which will set forth the amount of funds granted, the terms and conditions of the grant or cooperative agreement, the effective date of the grant, the budget period for which initial support will be given, the non-Federal share to be provided, if applicable, and the total project period for which support is contemplated. The award will be signed by the Grants Management Officer and transmitted via postal mail.

The Commissioner will notify organizations in writing when their applications will not be funded. Every effort will be made to notify all unsuccessful applicants as soon as possible after final decisions are made.

2. Administrative and National Policy Requirements

45 CFR Part 74 and 45 CFR Part 92.

Conditions of the Cooperative Agreement

A cooperative agreement is a specific method of awarding federal assistance in which substantial federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of grant or sub-grant activities, if applicable; and Children's Bureau and recipient joint collaboration in the performance of key programmatic activities (i.e., strategic planning, implementation, information technology enhancements, training and technical assistance, publications or products, and evaluation). It also includes close monitoring by the Children's Bureau of the requirements stated in this announcement that limit the grantee's discretion with respect to scope of services offered, organizational structure and management processes, coupled with close Children's Bureau monitoring during performance, which may, in order to ensure compliance with the intent of this funding, exceed those federal stewardship responsibilities customary for grant activities.

Faith-based organizations that receive funding may not use Federal financial assistance, including funds, to meet any cost-sharing requirements or to support inherently religious activities, such as worship, religious instruction, or prayer.

3. Reporting

Reporting Requirements

Programmatic Reports and Financial Reports are required semi-annually with final reports due 90 days after project period end. All required reports will be submitted in a timely manner, in recommended formats (to be provided), and the final report will also be submitted on disk or electronically using a standard word-processing program.

Within 90 days of project end date, the awardee will submit a copy of the final report, the evaluation report, and any program products to the National Clearinghouse on Child Abuse and Neglect, 330 C Street, SW., Washington, DC 20447. This is in addition to the standard requirement that the final program and evaluation report must also be submitted to the Grants Management Specialist and the Federal Project Officer.

VII. Agency Contacts

Program Office Contact: Melissa Lim-Brodowski, 330 C St., SW., Washington, DC 20447, 202-205-2629, mbrodowski@acf.hhs.gov.

Grants Management Office Contact: William Wilson, 330 C St, SW., 20447, Washington, DC, 202-205-8913, wwilson@acf.hhs.gov.

General: The Dixon Group, ACYF Operations Center, 118 Q Street, NE., Washington, DC 20002-2132, telephone: (866) 796-1591.

VIII. Other Information

Additional information about this program and its purpose can be located on the following Web sites: http://www.acf.hhs.gov/programs/cb/.

Copies of the following Forms, Assurances, and Certifications are available online at http://www.acf.hhs.gov/programs/ofs/grants/form.htm.

Standard Form 424: Application for Federal Assistance; Standard Form 424A: Budget Information; Standard Form 424B: Assurances-Non-Construction Programs; Form LLL: Disclosure of Lobbying; Certification Regarding Environmental Tobacco Smoke; Standard Form 310: Protection of Human Subjects.

The State Single Point of Contact SPOC listing is available on line at http://www.whitehouse.gov/omb/grants/spoc.html.

Dated: April 5, 2004.
Frank Fuentes,
Deputy Commissioner, Administration on Children, Youth and Families.

[FR Doc. 04-8465 Filed 4-13-04; 8:45 am]

BILLING CODE 4184-01-P